DEPARTMENT OF AGRICULTURE

Foreign Agricultural Service

Announcement of the Emerging Markets Program for Fiscal Year 2001

AGENCY: Foreign Agricultural Service, USDA.

ACTION: Notice.

SUMMARY: This notice announces the application period for the Fiscal Year 2001 Emerging Markets Program.

DATES: All proposals must be received by 5 p.m. Eastern Standard Time, March 12, 2001.

FOR FURTHER INFORMATION CONTACT: Marketing Operations Staff, Foreign Agricultural Service, U.S. Department of Agriculture, STOP 1042, 1400 Independence Ave., SW., Washington, DC 20250-1042, phone: (202) 720-4327, fax: (202) 720-9361, email: emo@fas.usda.gov.

SUPPLEMENTARY INFORMATION:

Authority

The Emerging Markets Program is authorized by Section 1542(d)(1)(D) of the Food, Agriculture, Conservation, and Trade Act of 1990, as amended (the Act). Up to $10 million is available to fund the program each fiscal year.

Introduction

The Foreign Agricultural Service (FAS) announces that proposals are being accepted for participation in the Fiscal Year 2001 Emerging Markets Program (EMP). The purpose of the EMP is to assist U.S. organizations, public and private, to improve market access and develop and promote U.S. agricultural products in emerging markets by providing, or paying the costs of, approved technical assistance activities. The EMP generally operates on a reimbursement basis.

The Act defines an emerging market as any country that the Secretary of Agriculture determines:

(1) Is taking steps toward a market-oriented economy through the food, agriculture, or rural business sectors of the economy of the country; and

(2) Has the potential to provide a viable and significant market for United States agricultural commodities or products of United States agricultural commodities. Because funds are limited and the range of potential emerging market countries is worldwide, proposals for funding technical assistance activities (“proposals”) will be considered which target those countries with (1) per capita income less than $9,360 (the ceiling on upper middle income economies as determined by the World Bank [World Development Indicators 2000]); and (2) population greater than 1 million. Proposals may address suitable regional groupings, e.g., the islands of the Caribbean Basin.

Eligible Applicants, Commodities, and Activities

Any United States agricultural or agribusiness organization, university, or state department of agriculture is eligible to participate in the EMP. Activities may seek to develop, maintain, or expand markets for any agricultural commodities or products except tobacco. Proposals will be considered under this announcement from any U.S. private agricultural or agribusiness organization, with certain restrictions as indicated below. Proposals from research and consulting organizations will be considered if they provide evidence of substantial participation by the U.S. industry. Proposals may include multiple commodities.

Only technical assistance activities are eligible for reimbursement. Following are examples of the types of activities that may be funded:

—Projects designed specifically to improve market access in emerging foreign markets. Examples: activities intended to mitigate the impact of sudden political events or economic and currency crises in order to maintain U.S. market share; responses to time-sensitive market opportunities;

—Marketing and distribution of more value-added products, including new products or uses. Examples: food service development; market research on potential for consumer-ready foods or new uses of a product;

—Studies of food distribution channels in emerging markets, including infrastructural impediments to U.S. exports; such studies may include cross-commodity activities which focus on problems, e.g., distribution, which affect more than one industry. Examples: grain storage handling and inventory systems development; distribution infrastructure development;

—Projects that specifically address various constraints to U.S. exports, including sanitary and phytosanitary issues and other non-tariff barriers. Examples: seminars on U.S. food safety standards and regulations; assessing and addressing pest and disease problems that inhibit U.S. product exports;

—Assessments and follow up activities designed to improve country-wide food and business systems, to reduce trade barriers, to increase prospects for U.S. trade and investment in emerging markets, and to determine the potential use for general export credit guarantees, including especially the Facilities Guarantee Program, for commodities, facilities and services. Examples: product needs assessments and market analysis; assessments for using facilities credits to address infrastructural impediments;

—Projects that help foreign governments collect and use market information and develop free trade policies that benefit American exporters as well as the target country or countries. Examples: agricultural statistical analysis; development of market information systems; policy analysis;

—Short-term training in broad aspects of agriculture and agribusiness trade that will benefit U.S. exporters, including seminars and training at trade shows designed to expand the potential for U.S. agricultural exports by focusing on the trading system. Examples: retail training; marketing seminars; transportation seminars; training keyed to opening new or expanding existing markets.

Ineligible activities include restaurant promotions; branded product promotions (including labeling and supplementing normal company sales activities intended to increase awareness and stimulate sales of branded products); advertising; administrative and operational expenses for trade shows; and the preparation and printing of brochures, flyers, posters, etc., except in connection with specific technical assistance activities such as training seminars. Other items excluded from funding are detailed in the FY 2001 EMP Guidelines.

Project Suitability and Allocation of Funds

The underlying premise of the EMP is that there are distinctive characteristics of emerging agricultural markets that necessitate or benefit significantly from U.S. governmental assistance before the private sector moves to develop these markets through normal corporate or trade promotional activities. The emphasis is on marketing opportunities where there are risks that the private sector would not normally undertake alone, with funding provided for successful activities on a project-by-project basis. The EMP complements the efforts of other FAS marketing programs. Once a market access issue has been addressed by the EMP, further market development activities may be considered under other programs such as GSM-102 or GSM-103 credit guarantee programs, the Facilities Guarantee Program, the Suppliers' Guarantee Program, the MAP, or the Cooperator Program.

In general, priority consideration will be given to proposals that identify and seek to address specific problems or constraints in rural business systems or food and agribusiness systems in emerging markets through technical assistance to expand or maintain U.S. agricultural exports. Priority will also be given to those proposals that include the willingness of the applicant to commit its own funds, or those of the U.S. industry, to seek export opportunities in an emerging market. The EMP is intended to supplement, not supplant, the efforts of the U.S. private sector. The percentage of private funding proposed for a project will therefore be a critical factor in determining which proposals are funded under the EMP. Proposals will also be judged on their ability to provide benefits to the organization receiving EMP funds and to the broader industry which that organization represents.

The following marketing criteria will be used to determine the suitability of projects for funding by the EMP:

1. Low U.S. market share and significant market potential.

• Is there a significant lag in U.S. market share of a specific commodity in a given country or countries?

• Is there an identifiable obstacle or competitive disadvantage facing U.S. exporters (e.g., competitor financing, subsidy, competitor market development activity) or a systemic obstacle to imports of U.S. products (e.g., inadequate distribution, infrastructure impediments, insufficient information, lack of financing options or resources)?

• What is the potential of a project to generate a significant increase in U.S. agricultural exports in the near- to medium-term? (Estimates or projections of trade benefits to commodity exports, and the basis for evaluating such, must be included in EMP proposals.)

2. Recent change in a market.

• Is there, for example, a change in a sanitary or phytosanitary trade barrier; a change in an import regime or the lifting of a trade embargo; or a shift in the political or financial situation in a country?

In general, all proposals received before the application deadline will compete for EMP funding. The limited funds of the EMP and the range of emerging markets worldwide in which the funds may be used preclude the EMP from approving large budgets for individual projects. While no minimum or maximum cost-share level is required, the absolute amount of private sector funding committed may also affect the decision to fund a proposal. Cost-sharing provided by private industry may include professional time of staff assigned to the project or actual cash invested in the proposed project. However, proposals in which private industry is willing to commit actual funds, rather than contributing such in-kind items as staff resources, will be given priority consideration. There is no minimum or maximum amount set for EMP-funded projects; however, most are funded at a level of less than $500,000 and for a duration of one year or less.

Multi-year Proposals. Multi-year proposals may be considered in the context of a strategic plan and detailed plan of implementation. Funding in such cases is normally provided one year at a time, with commitments beyond the first year subject to interim evaluations.

Note: While this announcement solicits proposals from private U.S. agricultural organizations for consideration and funding on a competitive basis, the EMP may also consider proposals on an accelerated basis depending upon the technical and time requirements of the proposal. If approved, such proposals would be covered through the Technical Issues Resolution Fund or the Quick Response Market Fund. More details concerning these specialty funds are contained in the EMP Guidelines.

Application Process

This notice is complemented by concurrent notices announcing other foreign market development programs administered by FAS including the Market Access Program (MAP), the Foreign Market Development Cooperator (Cooperator) Program, the Section 108 Program, and the Quality Samples Program (QSP). The MAP and Cooperator Program notices detail a Unified Export Strategy (UES) application process which provides a means for interested applicants to submit a consolidated and strategically coordinated single proposal that incorporates funding requests for any or all of these programs. Some applicants to the EMP, particularly those who are applying for funding under more than one program, may wish to use the UES application process. The Internet-based UES application, including step-by-step instructions for its use, is located at the following URL address: http://www.fas.usda.gov/cooperators.html. Other applicants, particularly those who are applying for funding only under the EMP, should follow the application procedures contained in this notice. Interested applicants that are unsure of which application is appropriate are urged to contact the Marketing Operations Staff at the address above. The deadline for all applications to the EMP, regardless of format, is 5 p.m. Eastern Standard Time, March 12, 2001. FAS recommends that applications not be longer than ten (10) pages.

It is strongly recommended that applicants obtain a copy of the 2001 EMP Guidelines prior to submitting an application. Requests for the 2001 EMP Guidelines and additional information may be obtained from the Marketing Operations Staff at the address above. The Guidelines are also available at the following URL address: http://www.fas.usda.gov/excredits/em-markets/em-markets.html.

Application Information

To assist FAS in making determinations regarding funding, FAS recommends that proposals contain the following information: (1) Name and address of person/organization submitting proposal; (2) organization qualifications (this may be submitted as an attachment to the application); (3) telephone and fax numbers; (4) Federal tax ID number of the responsible organization; (5) full title of proposal; (6) projected starting date for the proposal and time line(s) for project implementation; (7) precis of the proposal, including objectives, summary of proposed activities, targeted country/countries for proposed activities, and funding amount requested; (8) statement of problem (specific trade constraint) to be addressed through the proposed project; (9) supporting market analysis of the targeted market(s)—brief economic analysis for each commodity and country, including current market conditions, relevant trade data, existing percentage of U.S. export market share, and the basis or source(s) for this data; (10) benefits to U.S. agricultural exports as a result of the proposed project, including specific performance measures; (11) detailed description of proposed activities and budgets, including other sources of funding for the project and contributions from participating organizations (refer to the EMP Guidelines for additional details); (12) information on whether similar activities are or have previously been funded in targeted country/countries (e.g., under other Federal assistance programs); (13) and a clearly stated justification as to why participating organization(s) are unlikely to carry out the proposed activities without EMP funding.

Reporting Requirement

A performance report detailing the results of each project supported with EMP funds must be submitted to the Marketing Operations Staff at the address above. Because public funds are used to support EMP projects, these reports will be made available to the public.

Closing Date for Applications

All Internet-based applications, plus the supplemental information, must be properly submitted by 5 p.m. Eastern Standard Time, March 12, 2001.

All applications on diskette (with two accompanying paper copies) must be received by 5 p.m. Eastern Standard Time, March 12, 2001, at one of the following addresses:

Hand Delivery (including FedEx, DHL, UPS, etc.): U.S. Department of Agriculture, Foreign Agricultural Service, Marketing Operations Staff, Room 4932-S, 1400 Independence Avenue, SW., Washington, DC 20250-1042.

U.S. Postal Delivery: Marketing Operations Staff, STOP 1042, 1400 Independence Ave., SW., Washington, DC 20250-1042.

Timothy J. Galvin,
Administrator, Foreign Agricultural Service.

[FR Doc. 00-33139 Filed 12-27-00; 8:45 am]

BILLING CODE 3410-10-P